DEPARTMENT OF THE TREASURY

Internal Revenue Service

26 CFR Part 1

[REG-148326-05]

RIN 1545-BF50

Further Guidance on the Application of Section 409A to Nonqualified Deferred Compensation Plans; Correction

AGENCY: Internal Revenue Service (IRS), Treasury.

ACTION: Correction to notice of proposed rulemaking.

SUMMARY: This document contains a correction to a notice of proposed rulemaking (REG-148326-05) that was published in the Federal Register on Monday, December 8, 2008 (73 FR 74380) providing guidance on the calculation of amounts includible in income under section 409A(a) and the additional taxes imposed by such section with respect to service providers participating in certain nonqualified deferred compensation plans. The regulations would affect such service providers and the service recipients for whom the service providers provide services.

FOR FURTHER INFORMATION CONTACT: Stephen Tackney, (202) 927-9639 (not a toll-free number).

SUPPLEMENTARY INFORMATION:

Background

The correction notice that is the subject of this document is under section 409A of the Internal Revenue Code.

Need for Correction

As published, the notice of proposed rulemaking (REG-148326-05) contains an error that may prove to be misleading and is in need of clarification.

Correction of Publication

Accordingly, the publication of the notice of proposed rulemaking (REG-148326-05), which was the subject of FR Doc. E8-28894, is corrected as follows:

On page 74380, column 3, in the preamble, under the caption FOR FURTHER INFORMATION CONTACT:, lines 1 and 2 from the bottom of the paragraph, the language “hearing, Funmi Taylor at (202) 622-7190 (not toll-free numbers).” is corrected to read “hearing, Funmi Taylor at (202) 622-3628 (not toll-free numbers)”.

LaNita Van Dyke,
Chief, Publications and Regulations Branch, Legal Processing Division, Associate Chief Counsel, (Procedure and Administration).

[FR Doc. E9-3323 Filed 2-17-09; 8:45 am]

BILLING CODE 4830-01-P